DEPARTMENT OF HEALTH AND HUMAN SERVICES

Centers for Disease Control and Prevention

Notice of Public Input Opportunity

AGENCY: Centers for Disease Control and Prevention (CDC), Department of Health and Human Services (HHS).

SUMMARY: The National Institute for Occupational Safety and Health (NIOSH) of the Centers for Disease Control and Prevention (CDC) announces the following:

Availability of opportunity for the Public to provide input on a proposed document:

“Laboratory and Field Performance of a Respirable Personal Dust Monitor”

The National Institute for Occupational Safety and Health (NIOSH) is the Federal agency responsible for conducting research and making recommendations for the prevention of occupational injuries and illnesses, including those occurring in the mining industry. Federal Mine Safety and Health Act, 30 U.S.C. 951. The Secretary of Labor and the Federal Advisory Committee on the Elimination of Pneumoconiosis Among Coal Mine Workers requested NIOSH to conduct research to improve sampling instrumentation for use in the mining industry. NIOSH worked with industry, labor, and the Mine Safety and Health Administration (MSHA) to develop and test a new type of instrument known as the Personal Dust Monitor (PDM). The PDM is designed to be an integral part of the cap lamp that miners normally carry to work and provides continuous information about the amount of respirable coal mine dust in the breathing zone of that individual. Laboratory testing was conducted to verify the instruments' accuracy, as received from the manufacturer, and after a period of underground use of the instruments. Under the broad range of test conditions the PDM provided equal or better functioning than the current coal mine dust sampler in terms of availability for use, accuracy, precision, and miner acceptance; while also providing real-time data to miners wearing the units.

We are seeking comment on the draft document, “Laboratory and Field Performance of a Respirable Personal Dust Monitor,” which is available at: http://www.cdc.gov/niosh/review/public/dustmonitor/.

If you would prefer to have a hard copy rather than electronic, please contact NIOSH at the address shown below and we will mail or fax a copy to you. Please submit your comment on this document to nioshdocket@cdc.gov or mail them to: NIOSH Mailstop: C-34, Robert A. Taft Lab., 4676 Columbia Parkway, Cincinnati, Ohio 45226.

The draft report will remain available for public comment until June 30, 2006. After that date, NIOSH will post the public comments received on the NIOSH Web site. NIOSH will review all of the comments submitted and make appropriate revisions to the draft document before the document is finalized.

FOR FURTHER INFORMATION CONTACT: Jon C. Volkwein, CDC/NIOSH, Respiratory Hazards Control Branch, 626 Cochrans Mill Rd., Pittsburgh, PA 15236. 412-386-6689.

Information requests can also be submitted by e-mail to pdmcomments@cdc.gov.

Dated: May 26, 2006.
John Howard,
Director, National Institute for Occupational Safety and Health, Centers for Disease Control and Prevention.

[FR Doc. E6-8652 Filed 6-2-06; 8:45 am]

BILLING CODE 4163-19-P